DEPARTMENT OF AGRICULTURE

Food Safety and Inspection Service

[Docket No. FSIS-2022-0034]

National Advisory Committee on Microbiological Criteria for Foods; Membership Nominations

AGENCY: Food Safety and Inspection Service (FSIS), U.S. Department of Agriculture (USDA).

ACTION: Notice; soliciting nominations.

SUMMARY: Pursuant to the provisions of the rules and regulations of the USDA and the Federal Advisory Committee Act (FACA), the USDA is soliciting nominations for membership on the National Advisory Committee on Microbiological Criteria for Foods (NACMCF). There are 15 vacancies. Advisory Committee members serve a two-year term that will begin September 2023 through September 2025. Members may be reappointed for one additional consecutive term at the discretion of the Secretary of Agriculture.

DATES: All nomination packages must be received by March 15, 2023.

ADDRESSES: Nomination packages should be sent by email to NACMCF@usda.gov, or mailed to: The Honorable Thomas Vilsack, Secretary, U.S. Department of Agriculture, 1400 Independence Avenue SW, Room 1131, South Building, Attn: FSIS\OPHS\National Advisory Committee on Microbiological Criteria for Foods (John Jarosh), Washington, DC 20250.

Docket: For access to documents, call (202) 205-0495 to schedule a time to visit the FSIS Docket Room at 1400 Independence Avenue SW, Washington, DC 20250-3700.

FOR FURTHER INFORMATION CONTACT: John Jarosh, Designated Federal Officer, by telephone at 510-671-4397, by email to NACMCF@usda.gov or by mail to: John Jarosh, USDA, FSIS, Office of Public Health Science, 1400 Independence Avenue SW, Room 1131, Washington, DC 20250.

SUPPLEMENTARY INFORMATION: USDA is seeking NACMCF nominees with scientific expertise in the fields of microbiology, risk assessment, epidemiology, public health, food science, and other relevant disciplines, in order to obtain the scientific perspective, expertise, experience and point-of-view of all stakeholders. USDA is seeking nominations for NACMCF from persons in academia, industry, and State governments, as well as all other interested persons with the required expertise. Members can serve on only one USDA Advisory Committee at a time.

All nominees will undergo a USDA background check. Any member who is not a Federal government employee will be appointed to serve as a non-compensated special government employee (SGE). SGEs will be subject to appropriate conflict of interest statutes and standards of ethical conduct. Applicants that are federally registered lobbyists will not be considered for USDA's NACMCF.

Nominations for membership on the NACMCF must be addressed to the Secretary of Agriculture and accompanied by a cover letter addressing the nomination. Additionally, a resume or curriculum vitae and a completed USDA Advisory Committee Membership Background Information form AD-755 (available online at: https://www.usda.gov/sites/default/files/documents/ad-755.pdf) must be included with the nomination. The resume or curriculum vitae must be limited to five one-sided pages and should include educational background, expertise, and a list of select publications, if available, that confirm the nominee's expertise for the related work. Any submissions with more than the prescribed five one-sided pages in length will have only the first five pages reviewed. A person may self-nominate, or a nomination can be made on behalf of someone else.

Background

The NACMCF provides impartial scientific advice, and peer reviews to Federal food safety agencies for use in the development of an integrated national food safety systems approach that assures the safety of domestic, imported, and exported foods.

The NACMCF is a discretionary advisory committee that was established in 1988, by the Secretary of Agriculture, and after consulting with the Secretary of the U.S. Department of Health and Human Services, in response to the recommendations of two external organizations. The National Academy of Sciences recommended an interagency approach to microbiological criteria, since various federal, State, and local agencies are responsible for food safety. Also, the U.S. House of Representatives Committee on Appropriations made a similar recommendation in the Rural Development, Agriculture, and Related Agencies Appropriation Bill for fiscal year 1988. The charter for the NACMCF is available for viewing at https://www.fsis.usda.gov/policy/advisory-committees/national-advisory-committee-microbiological-criteria-foods-nacmcf. The NACMCF provides scientific advice and recommendations to the Secretary of Agriculture and the Secretary of Health and Human Services on public health issues relative to the safety and wholesomeness of the U.S. food supply, including development of microbiological criteria and review and evaluation of epidemiological and risk assessment data and methodologies for assessing microbiological hazards in foods. The Committee also provides scientific advice and recommendations to the U.S. Departments of Commerce and Defense. For example, one of the most recent efforts of the Committee was to provide the best scientific information available on `Enhancing Salmonella Control in Poultry.' The Committee is currently addressing `Cronobacter spp. In Powdered Infant Formula' and anticipates an FSIS charge related to the benefits of genomic characterization of pathogens.

The Committee reports to the Secretary of Agriculture through the Under Secretary for Food Safety, the Committee's Chair, and to the Secretary of Health and Human Services through the Assistant Secretary for Health, the Committee's Vice-Chair. Currently, Dr. José Emilio Esteban, Under Secretary for Food Safety, USDA, is the Committee Chair; Dr. Susan T. Mayne, Director of the Food and Drug Administration's Center for Food Safety and Applied Nutrition (CFSAN), is the Vice-Chair; and Mr. John J. Jarosh, FSIS, is the Director of the NACMCF Secretariat and Designated Federal Officer.

Appointments to the Committee will be made by the Secretary of Agriculture after consultation with the Secretary of Health and Human Services to ensure that recommendations made by the Committee take into account the needs of the diverse groups served by the USDA.

The full Committee expects to meet at least once a year, virtually or in person, and the meetings will be announced in advance in the Federal Register. NACMCF holds subcommittee meetings in order to accomplish the work of the Committee; all subcommittee work is reviewed and approved during a public meeting of the full Committee, as announced in the Federal Register. The subcommittees will meet as deemed necessary by the subcommittee chairperson in an open public forum. Subcommittees may also meet virtually. The subcommittee meetings will not be announced in the Federal Register; however, FSIS will announce the agenda and subcommittee meetings through the FSIS Constituent Update, available online at: http://www.fsis.usda.gov/cu. Subcommittees may invite technical experts to present information for consideration by the subcommittee. All data and records available to the full Committee are expected to be available to the public after the full Committee has reviewed and approved the work of the subcommittee.

Advisory committee members are expected to attend all scheduled meetings during their two-year term to ensure the smooth functioning of the advisory committee. Members must be prepared to work outside of scheduled Committee and subcommittee meetings and may be required to assist in document preparation. Committee members serve on a voluntary basis; however, travel expenses and per diem reimbursements are available when in person meetings occur.

Regarding Nominees Who Are Selected

All SGE and Federal government employee nominees who are selected must complete the Office of Government Ethics (OGE) 450 Confidential Financial Disclosure Report before rendering any advice or before their first meeting. All Committee members will be reviewed pursuant to 18 U.S.C. 208 for conflicts of interest relating to specific NACMCF work charges, and financial disclosure updates will be required annually. Members subject to financial disclosure must report any changes in financial holdings requiring additional disclosure. OGE 450 forms are available on-line at: https://www.oge.gov/web/oge.nsf/ethicsofficials_financial-disc.

Documents and Comments

NACMCF documents and comments posted on the FSIS website are electronic conversions from a variety of source formats. In some cases, document conversion may result in character translation or formatting errors. The original document is the official, legal copy. To meet the electronic and information technology accessibility standards in section 508 of the Rehabilitation Act, NACMCF may add alternate text descriptors for non-text elements (graphs, charts, tables, multimedia, etc.). These modifications only affect the internet copies of the documents. Copyrighted documents will not be posted on FSIS' website but will be available for inspection in the FSIS Docket Room.

Additional Public Notification

Public awareness of all segments of rulemaking and policy development is important. Consequently, FSIS will announce this Federal Register publication on-line through the FSIS web page located at: http://www.fsis.usda.gov/federal-register.

FSIS will also announce and provide a link to it through the FSIS Constituent Update, which is used to provide information regarding FSIS policies, procedures, regulations, Federal Register notices, FSIS public meetings, and other types of information that could affect or would be of interest to our constituents and stakeholders. The Constituent Update is available on the FSIS web page. Through the web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves and have the option to password protect their accounts.

USDA Non-Discrimination Statement

In accordance with Federal civil rights law and USDA civil rights regulations and policies, USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the Federal Relay Service at (800) 877-8339.

To file a program discrimination complaint, a complainant should complete a Form AD-3027, USDA Program Discrimination Complaint Form, which can be obtained online at https://www.ocio.usda.gov/document/ad-3027, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Dated: February 1, 2023.
Cikena Reid,
USDA Committee Management Officer.

[FR Doc. 2023-02395 Filed 2-3-23; 8:45 am]

BILLING CODE 3410-DM-P